DEPARTMENT OF JUSTICE

Drug Enforcement Administration

[Docket No. 10-34]

Cynthia M. Cadet, M.D.; Decision and Order

ACTION: Correction.

On Thursday, April 7, 2011, the Drug Enforcement Administration published the above-titled Decision and Order, as well as the Decision of the Administrative Law Judge (76 FR 19450). In preparing the document for publication, the files were merged resulting in the footnotes of the Administrative Law Judge's Decision being numbered sequentially to follow the footnote numbers of the Decision and Order rather than beginning with the number 1 as they did in the ALJ's slip opinion.

Therefore, this notice corrects footnotes 4 through 67 appearing in the Decision signed by the U.S. Administrative Law Judge to be footnotes 1 through 64 beginning at 76 FR 19451 under the second column.

Dated: April 8, 2011.
Michele M. Leonhart,
Administrator.

[FR Doc. 2011-9170 Filed 4-14-11; 8:45 am]

BILLING CODE 4410-09-P